DEPARTMENT OF HEALTH AND HUMAN SERVICES

National Institutes of Health

Center for Scientific Review Amended Notice of Meeting

Notice is hereby given of a change in the meeting of the Biochemistry and Biophysics of Membranes Study Section, September 26, 2011, 8 a.m. to September 27, 2011, 5 p.m., Churchill Hotel, 1914 Connecticut Avenue, NW., Washington, DC, 20009 which was published in the Federal Register on August 18, 2011, 76 FR 51379.

The meeting will be held September 26, 2011, from 8 a.m. to 7 p.m. The meeting location remains the same. The meeting is closed to the public.

Dated: August 30, 2011.
Jennifer S. Spaeth,
Director, Office of Federal Advisory Committee Policy.

[FR Doc. 2011-22731 Filed 9-2-11; 8:45 am]

BILLING CODE 4140-01-P